DEPARTMENT OF TRANSPORTATION

Federal Aviation Administration

14 CFR Part 39

[Docket No. 2000-NE-48-AD; Amendment 39-13107; AD 2003-07-11]

RIN 2120-AA64

Airworthiness Directives; Rolls-Royce Deutschland Ltd & Co KG Models BR700-710A1-10 and BR700-710A2-20 Turbofan Engines; Correction

AGENCY: Federal Aviation Administration, DOT.

ACTION: Final rule; request for comments, correction.

SUMMARY: This document makes a correction to Airworthiness Directive (AD) 2003-07-11, applicable to Rolls-Royce Deutschland Ltd & Co KG (formerly Rolls-Royce Deutschland GmbH, formerly BMW Rolls-Royce GmbH), models BR700-710A1-10 and BR700-710A2-20 turbofan engines. AD 2003-07-11 was published in the Federal Register on April 11, 2003 (68 FR 17727). Subsequently, a correction document was published in the Federal Register on April 23, 2003 (68 FR 19944) that made corrections to the compliance section starting at paragraph (g). This document corrects paragraph (f) of the compliance section that incorrectly references cycles instead of hours. This document changes cycles to hours in paragraph (f). In all other respects, the original document, with the corrections published on April 23, 2003, remains the same.

EFFECTIVE DATE: April 28, 2003.

FOR FURTHER INFORMATION CONTACT: James Lawrence, Aerospace Engineer, Engine Certification Office, FAA, Engine and Propeller Directorate, 12 New England Executive Park, Burlington, MA 01803-5299; telephone (781) 238-7176; fax (781) 238-7199.

SUPPLEMENTARY INFORMATION: A final rule; request for comments airworthiness directive FR DOC. 03-8327, applicable to Rolls-Royce Deutschland Ltd & Co KG models BR700-710A1-10 and BR700-710A2-20 turbofan engines, was published in the Federal Register on April 11, 2003 (68 FR 17727). The following correction is needed:

On page 17729, in the second column, under Repetitive Inspections heading, paragraph (f), third line, which reads “500 CSN, in accordance with paragraphs” is corrected to read “500 hours-since-new, in accordance with paragraphs''.

Issued in Burlington, MA, on May 2, 2003.
Francis A. Favara,
Acting Manager, Engine and Propeller Directorate, Aircraft Certification Service.

[FR Doc. 03-11537 Filed 5-8-03; 8:45 am]

BILLING CODE 4910-13-P